COMMITTEE FOR PURCHASE FROM PEOPLE WHO ARE BLIND OR SEVERELY DISABLED

Procurement List; Addition

AGENCY: Committee for Purchase From People Who Are Blind or Severely Disabled.

ACTION: Addition to from the Procurement List.

SUMMARY: This action adds a service to the Procurement List that will be furnished by nonprofit agencies employing persons who are blind or have other severe disabilities.

DATES: Date added to the Procurement List: May 7, 2019.

ADDRESSES: Committee for Purchase From People Who Are Blind or Severely Disabled, 1401 S. Clark Street, Suite 715, Arlington, Virginia, 22202-4149.

FOR FURTHER INFORMATION CONTACT: Michael R. Jurkowski, Telephone: (703) 603-2117, Fax: (703) 603-0655, or email CMTEFedReg@AbilityOne.gov.

SUPPLEMENTARY INFORMATION:

Addition

On 3/15/2019, the Committee for Purchase From People Who Are Blind or Severely Disabled published notice of proposed addition to the Procurement List.

After consideration of the material presented to it concerning capability of qualified nonprofit agencies to provide the service and impact of the addition on the current or most recent contractors, the Committee has determined that the service listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the service to the Government.

2. The action will result in authorizing small entities to furnish the service to the Government.

3. There are no known regulatory alternatives which would accomplish the objectives of the Javits-Wagner-O'Day Act (41 U.S.C. 8501-8506) in connection with the service proposed for addition to the Procurement List.

The Committee finds good cause to dispense with the 30-day delay in the effective date normally required by the Administrative Procedure Act. See 5 U.S.C. 553(d). This addition to the Committee's Procurement List is effectuated due to the request from the federal agency based on its need to complete onboarding activities and enroll employees of the nonprofit agency and its subcontractor in a training class that commences on May 13, 2019. According to the contracting office, the agency must award the contract not later than May 7, 2019. The Federal customer contacted, and has worked diligently with the AbilityOne Program to fulfill this service need under the AbilityOne Program to ensure enrollment in this class. To ensure enrollment in the training class and avoid performance disruption, this addition to the Procurement List must be effective on May 7, 2019, allowing seven (7) days for comments. The Committee also published a notice of proposed Procurement List addition in the Federal Register on March 15, 2019, and did not receive any comments.

The Commission is making the good cause determination based on the purchasing agency's “urgency of conditions coupled with demonstrated and unavoidable limitation of time,” and the primary consideration in invoking the good cause exception is for the “convenience or necessity of the [agency and nonprofit employees] affected” in line with Congressional intent. See 92 Cong.Rec. 5650-51 (1946). As such, this expedited effective date for this Procurement List addition will not create a public hardship and has limited effect on the public at large, but, rather, will create new jobs for people with significant disabilities in the AbilityOne Program who otherwise face challenges locating employment. Moreover, this addition will enable Federal customer operations to continue without interruption.

End of Certification

Accordingly, the following service is added to the Procurement List:

Service Type: IT Support Services (Program Integration Lifecycle Support)

Mandatory for: Defense Health Agency, Solution Delivery Division, Falls Church, VA

Mandatory Source of Supply: Global Connections to Employment, Inc., Pensacola, FL

Contracting Activity: Defense Health Agency

Michael R. Jurkowski,
Deputy Director, Business & PL Operations.

[FR Doc. 2019-08693 Filed 4-29-19; 8:45 am]

BILLING CODE 6353-01-P